DEPARTMENT OF ENERGY

Federal Energy Regulatory Commission

Combined Notice of Filings #2

Take notice that the Commission received the following electric rate filings:

Docket Numbers: ER15-2099-000.

Applicants: Duke Energy Carolinas, LLC.

Description: § 205(d) Rate Filing: City of Seneca NITSA Amendment SA No. 36 to be effective 7/1/2015.

Filed Date: 7/2/15.

Accession Number: 20150702-5147.

Comments Due: 5 p.m. ET 7/23/15.

Docket Numbers: ER15-2100-000.

Applicants: PJM Interconnection, L.L.C.

Description: § 205(d) Rate Filing: Talen ISA Update to be effective 6/2/2015.

Filed Date: 7/2/15.

Accession Number: 20150702-5200.

Comments Due: 5 p.m. ET 7/23/15.

Docket Numbers: ER15-2101-000.

Applicants: Golden West Power Partners, LLC.

Description: Baseline eTariff Filing: Golden West Power Partners, LLC Market-Based Rate Application to be effective 9/1/2015.

Filed Date: 7/2/15.

Accession Number: 20150702-5217.

Comments Due: 5 p.m. ET 7/23/15.

Docket Numbers: ER15-2102-000.

Applicants: New York Independent System Operator, Inc.

Description: § 205(d) Rate Filing: NYISO 205 filing on behalf of NYPA: NYPA Revised Transmission Revenue Rqrmnt to be effective 9/1/2015.

Filed Date: 7/2/15.

Accession Number: 20150702-5219.

Comments Due: 5 p.m. ET 7/23/15.

Docket Numbers: ER15-2103-000.

Applicants: Virginia Electric and Power Company.

Description: § 205(d) Rate Filing: Baseline Filing—Rate Schedule No. 114—NCEMPA to be effective 6/7/2015.

Filed Date: 7/2/15.

Accession Number: 20150702-5220.

Comments Due: 5 p.m. ET 7/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2015.
Kimberly D. Bose,
Secretary.

[FR Doc. 2015-16988 Filed 7-10-15; 8:45 am]

BILLING CODE 6717-01-P